DEPARTMENT OF EDUCATION

Office of Special Education and Rehabilitative Services; List of Correspondence

AGENCY: Department of Education.

ACTION: List of Correspondence from July 1, 2007 through September 30, 2007.

SUMMARY: The Secretary is publishing the following list pursuant to section 607(f) of the Individuals with Disabilities Education Act, as amended by the Individuals with Disabilities Education Improvement Act of 2004 (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from July 1, 2007 through September 30, 2007. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part A—General Provisions

Section 602—Definitions

Topic Addressed: Child With a Disability

○ Letter dated September 11, 2007 to individual (personally identifiable information redacted), regarding how a local educational agency (LEA) may address the needs of a child with a neurological impairment.

Part B—Assistance for Education of All Children With Disabilities

Section 612—State Eligibility

Topic Addressed: Methods of Ensuring Services

○ Letter dated August 15, 2007 to New Zion, South Carolina Walker Gamble Elementary School official Carlette Morris, regarding use of an interagency agreement between a State or LEA and a State Medicaid Agency to obtain Medicaid reimbursement for Medicaid-covered services included in a Medicaid-eligible child's individualized education program (IEP).

Topic Addressed: Confidentiality of Education Records

○ Letter dated August 7, 2007 to U.S. Representative Bill Shuster, restating the Department's policy that test protocols that do not contain personally identifiable information are not education records under either Part B of IDEA or the Family Educational Rights and Privacy Act.

Topic Addressed: Children With Disabilities Enrolled by Their Parents in Private Schools

○ Letter dated August 22, 2007 to Arizona Director of Exceptional Student Services Colette Chapman, clarifying that children with disabilities placed by their parents in for-profit private schools are not considered “parentally-placed private school children with disabilities,” are not included in the proportionate share calculation and are not eligible for equitable services.

○ Letter dated August 29, 2007 to Scarsdale, New York Public Schools Director of Special Education Dr. Michael Mendelson, regarding requirements in Part B of IDEA that are applicable to the LEA where the private school is located when a child with a disability is parentally-placed in a special education private school.

Section 614—Evaluations, Eligibility Determinations, Individualized Education Programs, and Educational Placements

Topic Addressed: Evaluations and Reevaluations

○ Letter dated July 27, 2007 to individual (personally identifiable information redacted) and letter dated September 24, 2007 to Mountain Plains Regional Resource Center Co-Director Dr. Carol Massanari, regarding the use of response to intervention in evaluating children suspected of having specific learning disabilities.

○ Letter dated August 15, 2007 to Lehigh University Professor Perry A. Zirkel, regarding an LEA's use of its State-adopted criteria for determining whether a child has a specific learning disability.

○ Letter dated September 5, 2007 to New York Attorney Edward J. Sarzynski, regarding whether written parental consent is required for all evaluations that are not standardized tests administered to all students.

Topic Addressed: Individualized Education Programs

○ Letter dated July 19, 2007 to individual (personally identifiable information redacted), regarding a State's proposed rules that relate to IEPs and other requirements in Part B of IDEA.

○ Letter dated August 24, 2007 to Disability Rights Advocate Pat Kelly, clarifying when benchmarks or short-term objectives must be included in the IEPs of students with disabilities who take alternate assessments aligned to alternate achievement standards.

○ Letter dated August 22, 2007 to Trident Literacy Association official Suzy Arents, clarifying that a private nonprofit entity has no obligation to develop IEPs for students with disabilities who have withdrawn from the public school program and who seek literacy services directly from a private nonprofit entity.

○ Letter dated September 4, 2007 to Conway, Arkansas Public Schools official Linda Boswell, regarding translation of IEP documents into a parent's native language.

Section 615—Procedural Safeguards

Topic Addressed: Impartial Due Process Hearing

○ Letter dated August 15, 2007 to Kentucky School Boards Association Senior Attorney Teresa T. Combs, regarding the Department's current position on whether a local school district must or may file a request for a due process hearing to attempt to force a child to return to the district's special education program when the parent revokes consent for the child's receipt of special education and related services.

○ Letter dated August 15, 2007 to Massachusetts Bureau of Special Education Appeals Director Richard E. Connelly, clarifying the obligation of a public agency to provide, at no cost, a copy of a written, or at the option of the parent, an electronic, verbatim record from a due process hearing, even though the applicable appeal period has expired.

○ Letter dated September 11, 2007 to Puerto Rico Special Education Attorney Roberto Maldonado, clarifying that any party to a due process hearing has the right to either a free copy of a written, or at the option of the parents, an electronic, verbatim record of the hearing, not both.

Topic Addressed: Maintenance of Current Educational Placement

○ Letter dated September 4, 2007 to Partnership for Children's Rights Attorney Michael D. Hampden, clarifying the applicability of the requirement regarding a child's status during the pendency of administrative or judicial proceedings in a single tier or two-tier due process system when no subsequent appeals are filed.

Topic Addressed: Protections for Children Not Yet Eligible for Special Education and Related Services

○ Letter dated September 5, 2007 to individual (personally identifiable information redacted), clarifying whether an expulsion hearing may occur before the hearing officer determines whether the LEA had knowledge that the child was a child with a disability.

Part C—Infants and Toddlers With Disabilities

Section 636—Individualized Family Service Plan

Topic Addressed: Content of Plan

○ Letter dated September 4, 2007 to Florida Early Steps Bureau Chief Janice M. Kane, clarifying the State's obligation to provide any services that meet the Part C definition of early intervention services through an individualized family service plan (IFSP).

○ Letter dated September 24, 2007 to individual (personally identifiable information redacted), clarifying that the IFSP Team, which includes the child's parents, makes an individualized determination of whether a particular method of providing services is needed for a child to achieve the outcomes in the child's IFSP.

Other Letters That Do Not Interpret Idea But May Be of Interest to Readers

Topic Addressed: Transition

○ Rehabilitation Services Administration Information Memorandum RSA-IM-07-08, regarding a comprehensive transition program that uses a variety of activities and innovative approaches to expose transition-age youth with disabilities (ages 14 to 24) to careers in science, technology, engineering, and math and other technology-based professions.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: January 8, 2008.
Tracy R. Justesen,
Assistant Secretary for Special Education and Rehabilitative Services.

[FR Doc. E8-448 Filed 1-11-08; 8:45 am]

BILLING CODE 4000-01-P